COMMITTEE FOR PURCHASE FROM PEOPLE WHO ARE BLIND OR SEVERELY DISABLED

Procurement List; Deletions

AGENCY: Committee for Purchase From People Who Are Blind or Severely Disabled.

ACTION: Deletions from the procurement list.

SUMMARY: This action deletes product(s) and service(s) from the Procurement List that were furnished by nonprofit agencies employing persons who are blind or have other severe disabilities.

DATES: Date deleted from the Procurement List: October 2, 2022.

ADDRESSES: Committee for Purchase From People Who Are Blind or Severely Disabled, 355 E Street SW, Washington, DC 20024.

FOR FURTHER INFORMATION CONTACT: Michael R. Jurkowski, Telephone: (703) 785-6404 or email CMTEFedReg@AbilityOne.gov.

SUPPLEMENTARY INFORMATION:

Deletions

On 1/7/2022, 7/1/2022, 7/22/2022, and 7/29/2022, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

5140-00-529-2517—Belt, Tool, Repairman's, Size 34

5140-00-529-2691—Belt, Tool, Repairman's, Size 44

5140-00-529-2694—Belt, Tool, Repairman's, Size 38

Contracting Activity: FAS HEARTLAND REGIONAL ADMINISTRATO, KANSAS CITY, MO

NSN(s)—Product Name(s):

8465-00-262-5237—Lanyard, Pistol, White

8465-00-965-1705—Lanyard, Pistol, Olive Green

Designated Source of Supply: Work, Incorporated, Dorchester, MA

Contracting Activity: DLA TROOP SUPPORT, PHILADELPHIA, PA

Service(s)

Service Type: Medical Transcription

Mandatory for: Federal Bureau of Prisons, Greenville, IL

Designated Source of Supply: Lighthouse for the Blind of Houston, Houston, TX

Contracting Activity: FEDERAL PRISON SYSTEM, TERMINAL ISLAND, FCI

Service Type: Administrative Services

Mandatory for: Internal Revenue Service Mailroom: 1919 Smith Street, Houston, TX

Designated Source of Supply: Lighthouse for the Blind of Houston, Houston, TX

Contracting Activity: TREASURY, DEPARTMENT OF THE, DEPT OF TREAS/

Service Type: Transcription Services

Mandatory for: U.S. Army, U.S. Army War College, Carlisle, PA (Offsite: 5590 Derry Street, Harrisburg, PA 17111)

Designated Source of Supply: InspiriTec, Inc., Philadelphia, PA

Contracting Activity: DEPT OF THE ARMY, W6QM MICC-CARLISLE BARRACKS

Michael R. Jurkowski,
Acting Director, Business Operations.

[FR Doc. 2022-19010 Filed 9-1-22; 8:45 am]

BILLING CODE 6353-01-P